NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by May 14, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant:

Permit Application: 2013-001

William R. Fraser, Polar Oceans Research Group, P.O. Box 366, Sheridan, MT 59749.

Activity for Which Permit Is Requested

Enter Antarctic Specially Protected Areas (ASPA's), Take, and Import into the USA. The applicant conducts research as part of the Palmer Station Long-Term Ecological Research Program. The applicant plans to enter the Antarctic Specially Protected areas of ASPA 107-Dion Islands, ASPA 113-Litchfield Island, ASPA 115-Lagotellerie Island, ASPA-117-Avian Island, and ASPA 139-Biscoe Point to conduct his research. He plans to take by capture and release to (1) census populations and mark breeding territories; (2) capture, mark, band and/or weigh adult, chicks and eggs of seabirds (Adelie, Chinstrap, and Gentoo penguins, Brown Skua, South Polar Skua, S. Giant Petrel, Blue-Eyed Shag, and Kelp Gulls), (3) obtain diet samples by stomach lavage, by screening contents of terrestrial sediment traps and/or by collecting regurgitated prey items; (4) place transmitters on individuals; (5) place instrumented artificial eggs under incubating individuals; (6) obtain tissue samples from adults and chicks (e.g. preen gland oil, blood, feathers, yolk); (7) collect addled/infertile eggs no longer being incubated; (8) use GPS/GIS technologies to update existing breeding habitat maps, and (9) salvage dead specimens in good condition for educational purposes.

Location

Palmer Station area, Marguerite Bay including ASPA 107-Dion Islands, ASPA 113-Litchfield Island, ASPA 115-Lagotellerie Island, ASPA-117-Avian Island, and ASPA 139-Biscoe Point.

Dates

October 1, 2012 to 30 September 30, 2017.

Nadene G. Kennedy,
Permit Officer, Office of Polar Programs.

[FR Doc. 2012-8726 Filed 4-11-12; 8:45 am]

BILLING CODE 7555-01-P